Proclamation 9918 of August 30, 2019

National Childhood Cancer Awareness Month, 2019

By the President of the United States of America

A Proclamation

During National Childhood Cancer Awareness Month, we recognize the brave young Americans who are courageously fighting cancer, and we pause to remember those we have lost to this horrible disease. We also reaffirm our Nation's commitment to developing cures for pediatric cancer, which inflicts terrible pain on children and causes tremendous anguish for parents and loved ones.

Each year, more than 15,000 children and adolescents under the age of 19 are diagnosed with cancer. Although cancer is the leading cause of post-infancy death among our Nation's young people, there is hope for those afflicted by this disease. In the last half century, the life expectancy of children and adolescents with cancer has greatly increased, with approximately 85 percent now living for at least 5 years after being diagnosed. Building upon this progress, we continue our efforts to find effective and innovative medical procedures to treat and prevent all forms of cancer and to improve the quality of life for childhood cancer survivors.

My Administration is committed to supporting our Nation's dedicated medical professionals, researchers, and innovators as they work to win the fight against childhood cancer. Last year, I signed into law the Childhood Cancer Survivorship, Treatment, Access, and Research (STAR) Act. This legislation will support research for childhood cancers, explore effective treatments, and help enhance the quality of long-term care for the tenacious young people who have finished treatment and entered into remission. I am also working with the Congress to invest $500 million over the next decade in cancer-related research. This funding will enable our Nation's best scientists and doctors to learn from every child with cancer, creating new opportunities to understand the unique causes of and best cures for childhood cancer.

This month, we honor the more than 400,000 survivors of childhood and adolescent cancers in the United States. Their resilient spirit and immeasurable courage inspire us all. We also express our sincerest gratitude to those who work tirelessly to ensure that all children can live healthy, long, and productive lives.

NOW, THEREFORE, I, DONALD J. TRUMP, President of the United States of America, by virtue of the authority vested in me by the Constitution and the laws of the United States, do hereby proclaim September 2019 as National Childhood Cancer Awareness Month. I encourage all Americans to observe this month with appropriate programs and activities that raise awareness of the efforts to find a cure for childhood cancer.

IN WITNESS WHEREOF, I have hereunto set my hand this thirtieth day of August, in the year of our Lord two thousand nineteen, and of the Independence of the United States of America the two hundred and forty-fourth.

[FR Doc. 2019-19357

Filed 9-4-19; 11:15 am]

Billing code 3295-F9-P